DEPARTMENT OF STATE

[Public Notice 7105; Greece Docket No. DOS-2010-0339; Colombia Docket No. DOS-2010-0340]

Notice of Meeting and Closed Meeting of the Cultural Property Advisory Committee

There will be a meeting of the Cultural Property Advisory Committee on Tuesday, October 12, 2010, from approximately 9 a.m. to 5 p.m., on Wednesday, October 13, 2010, from approximately 9 a.m. to 5 p.m., and on Thursday, October 14, 2010, from approximately 9 a.m. to 1 p.m, at the Department of State, Annex 5, 2200 C Street, NW., Washington, DC.

During its meeting on Tuesday, October 12, the Committee will begin its review of a new cultural property request from the Government of the Hellenic Republic seeking import restrictions on archaeological and ethnological material [Docket No. DOS-2010-0339]. An open session to receive oral public comment on this request will be held from 10 a.m. to 1 p.m. Please see the link to the Public Summary of this request at http://exchanges.state.gov/heritage/whatsnew.html.

On Wednesday, October 13, the Committee will review a proposal to extend the Memorandum of Understanding Between the Government of the United States of America and the Government of the Republic of Colombia Concerning the Imposition of Import Restrictions on Archaeological Material from the Pre-Columbian Cultures and Certain Ethnological Material from the Colonial Period of Colombia [Docket No. DOS-2010-0340]. The Government of the Republic of Colombia has notified the Government of the United States of America of its interest in extending the MOU. On Wednesday, October 13, the Committee will have an open session from approximately 9:30 a.m. to 11 a.m., to receive public comment on the proposal to extend the MOU with Colombia.

On Thursday, October 14, the Committee will conduct interim reviews of the Memorandum of Understanding Between the Government of the United States of America and the Government of the Republic of Cyprus Concerning the Imposition of Import Restrictions on Pre-Classical and Classical Archaeological Objects and Byzantine Period Ecclesiastical and Ritual Ethnological Material, and of the Memorandum of Understanding Between the Government of the United States of America and the Government of the Republic of Peru Concerning the Imposition of Import Restrictions on Archaeological Material from the Prehispanic Cultures and Certain Ethnological Material from the Colonial Period of Peru. This will be a closed session. Public comment, oral and written, will be invited at a time in the future should these MOUs be proposed for extension.

The Committee's responsibilities are carried out in accordance with provisions of the Convention on Cultural Property Implementation Act (19 U.S.C. 2601 et seq.). The text of the Act and subject MOUs, as well as related information, may be found at http://exchanges.state.gov/heritage/. Persons wishing to attend either of the open sessions should notify the Cultural Heritage Center of the Department of State at (202) 632-6301 no later than 5 p.m. (EDT) September 22, 2010, to arrange for admission. Seating is extremely limited. Special accommodation needs should be specified upon notification of attendance.

Portions of the meeting on October 12 and 13, and the entire meeting on October 14, will be closed pursuant to 5 U.S.C. 552b(c)(9)(B) and 19 U.S.C. 2605(h), the latter of which stipulates that “The provisions of the Federal Advisory Committee Act shall apply to the Cultural Property Advisory Committee except that the requirements of subsections (a) and (b) of section 10 and 11 of such Act (relating to open meetings, public notice, public participation, and public availability of documents) shall not apply to the Committee, whenever and to the extent it is determined by the President or his designee that the disclosure of matters involved in the Committee's proceedings would compromise the Government's negotiation objectives or bargaining positions on the negotiations of any agreement authorized by this title.”

Persons wishing to make an oral presentation at either public session, on October 12 or October 13, must request to be scheduled and must submit a written text of the oral comments, ensuring that it is received no later than September 22, 2010, 11:59 p.m. (EDT) to allow time for distribution to Committee members prior to the meeting. Oral comments will be limited to allow time for questions from members of the Committee. All oral and written comments must relate specifically to the determinations under Section 303(a)(1) (19 U.S.C. 2602) of the Convention on Cultural Property Implementation Act, pursuant to which the Committee must make findings. This statute can be found at the Web site noted above.

Submitting written comments: All written materials, including the written texts of oral statements, may be submitted on paper via regular or express mail, or hand delivery; or electronically through the Regulations.gov Web site. For submissions of more than three (3) pages, 20 paper copies must be sent to the address below. Those having access to the Internet and wishing to make a comment of three or fewer pages regarding this Public Notice, may do so through the Regulations.gov Web site (see below). This change in procedure facilitates public participation, implements Section 206 of the E-Government Act of 2002, Public Law 107-347, 116 Stat. 2915, and also supports the Department of State's “Greening Diplomacy” initiative. Therefore, comments by fax or by e-mail will no longer be accepted. Please submit comments only one time.

• Regular or Express Mail. Cultural Heritage Center (ECA/P/C), SA-5, Fifth Floor, Department of State, Washington, DC 20522-0505.

• Hand Delivery. Cultural Heritage Center (ECA/P/C), Department of State, 2200 C Street, NW., Washington, DC 20522-0505.

• Electronic Delivery. To submit comments electronically, go to http://www.regulations.gov and enter the relevant docket number into the box under “Enter Keyword or ID”, and follow the prompts to submit a comment. For further information, see http://exchanges.state.gov/heritage/whatsnew.html.

Privacy: Comments submitted in electronic form will be posted on the regulations.gov Web site. Because the comments cannot be edited to remove any identifying or contact information, the Department of State cautions against including any information in an electronic submission that one does not want publicly disclosed (including trade secrets and commercial or financial information that is privileged or confidential pursuant to 19 U.S.C. 2605(i)(1)). The Department of State requests that any party soliciting or aggregating comments received from other persons for submission to the Department of State inform those persons that the Department of State will not edit their comments to remove any identifying or contact information, and therefore, they should not include any information in their comments that they do not want publicly disclosed.

Dated: August 18, 2010.
Ann Stock,
Assistant Secretary, Bureau of Educational and Cultural Affairs, Department of State.

[FR Doc. 2010-21286 Filed 8-25-10; 8:45 am]

BILLING CODE 4710-05-P